DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

George E. Eagan, University of Albany, State of New York: Based on the report of an investigation conducted by the University of Albany, State of New York (UA-SUNY) and additional analysis conducted by ORI in its oversight review, the U.S. Public Health Service (PHS) found that Mr. Eagan, former laboratory technician at UA-SUNY, engaged in scientific misconduct by falsification and fabrication of data supported by a subcontract to UA-SUNY on National Institute of General Medical Sciences (NIGMS), National Institutes of Health (NIH), grant R01 GM46312-11, “Structural Biochemistry of DNA Base Excision Repair.”

Specifically, PHS found that Mr. Eagan engaged in scientific misconduct by falsifying and fabricating the data for two experiments, conducted on February 12 and 13, 2002, designed to test the survival of strains of bacteria exposed to different base analog mutagens. Mr. Eagan's experiments were significant because they would have contributed to the overall objective of the grant to understand the structural and biochemical interaction of enzymes involved in base-excision repair with various substrates, including the base analogs studied by Mr. Eagan.

Mr. Eagan has entered into a Voluntary Exclusion Agreement in which he has voluntarily agreed for a period of five (5) years, beginning on January 13, 2003:

(1) To exclude himself from any contracting or subcontracting with any agency of the United States Government and from eligibility for, or involvement in, nonprocurement transactions (e.g., grants and cooperative agreements) of the United States Government referred to as “covered transactions” as defined in 45 CFR part 76 (Debarment Regulations); and

(2) To exclude himself from serving in any advisory capacity to PHS including but not limited to service on any PHS advisory committee, board, and/or peer review committee, or as a consultant.

Mr. Eagan had admitted to falsification of data in an earlier case.

FOR FURTHER INFORMATION CONTACT: Director, Division of Investigative Oversight, Office of Research Integrity, 5515 Security Lane, Suite 700, Rockville, MD 20852, (301) 443-5330.

Chris B. Pascal,
Director, Office of Research Integrity.

[FR Doc. 03-1920 Filed 1-27-03; 8:45 am]

BILLING CODE 4150-31-P